DEPARTMENT OF ENERGY

Federal Energy Regulatory Commission

Notice of Intent To File an Application for a Subsequent License

April 11, 2000.

a. Type of Filing: Notice of Intent to File An Application for a Subsequent License.

b. Project No.: 6514.

c. Date Filed: March 13, 2000.

d. Submitted By: City of Marshall, Michigan—current licensee.

e. Name of Project: City of Marshall Hydroelectric Project.

f. Location: On the Kalamazoo River near the City of Marshall, in Calhoun County, Michigan. The project does not utilize federal lands.

g. Filed Pursuant to: Section 15 of the Federal Power Act.

h. Licensee Contact: Thomas Tarkiewicz, City of Marshall, 323 West Michigan Avenue, Marshall, MI 49068, (616) 781-5183.

i. FERC Contact: Tom Dean, thomas.dean@ferc.fed.us, (202) 219-2778

j. Effective date of current license: June 1, 1955.

k. Expiration date of current license: May 31, 2005.

l. Description of the Project: The project consists of the following existing facilities: (1) the 12-foot-high, 150-foot-long Perrin No. 1 Dam; (2) the 12-foot-high, 90-foot-long Perrin No. 2 Dam; (3) a 130-acre reservoir with a normal pool elevation of 899 feet msl; (4) a 70-foot-long canal-type forebay; (5) a powerhouse containing three generating units with a total installed capacity of 463 kW; and (6) other appurtenances.

m. Each application for a subsequent license and any competing license applications must be filed with the Commission at least 24 months prior to the expiration of the existing license. All applications for license for this project must be filed by May 31, 2003.

Linwood A. Watson, Jr,
Acting Secretary.

[FR Doc. 00-9478 Filed 4-14-00; 8:45 am]

BILLING CODE 6717-01-M